ENVIRONMENTAL PROTECTION AGENCY

40 CFR Part 52

[EPA-R06-OAR-2007-0210; FRL-9177-4]

Approval and Promulgation of Air Quality Implementation Plans; Texas; Revisions to Emissions Inventory Reporting Requirements and Conformity of General Federal Actions, Including Revisions Allowing Electronic Reporting Consistent With the Cross Media Electronic Reporting Rule

AGENCY: Environmental Protection Agency (EPA).

ACTION: Direct final rule.

SUMMARY: EPA is approving Texas State Implementation Plan (SIP) revisions that were submitted by the Governor of Texas and by the Texas Commission on Environmental Quality (TCEQ) respectively on December 17, 1999 and February 26, 2007. The revisions pertain to regulations on reporting air pollution emissions (emission inventories), and conformity of general federal actions to SIPs. The revisions on emissions inventories allow the state to collect additional data related to emissions from stationary sources and contain requirements for sources in regions that are in violation of a national ambient air quality standard (NAAQS) to report typical daily emissions of carbon monoxide and ozone precursor gases during the winter and summer months, respectively. The revisions also allow for electronic reporting of documents required under federally authorized programs and designated state programs, including emissions inventories from stationary sources. The revisions to regulations on conformity of general federal actions to SIPs are non-substantive. EPA is approving the revisions pursuant to Section 110, part D of the Federal Clean Air Act (CAA).

DATES: This rule is effective on September 21, 2010 without further notice, unless EPA receives relevant adverse comment by August 23, 2010. If EPA receives such comment, EPA will publish a timely withdrawal in the Federal Register informing the public that this rule will not take effect.

ADDRESSES: Submit your comments, identified by Docket No. EPA-R06-OAR-2007-0210, by one of the following methods:

• Federal eRulemaking Portal: http://www.regulations.gov. Follow the on-line instructions for submitting comments.

• EPA Region 6 “Contact Us” Web site: http://epa.gov/region6/r6coment.htm. Please click on “6PD” (Multimedia) and select “Air” before submitting comments.

• E-mail: Mr. Guy Donaldson at Donaldson.guy@epa.gov. Please also send a copy by e-mail to the person listed in the FOR FURTHER INFORMATION CONTACT section below.

• Fax: Mr. Guy Donaldson, Chief, Air Planning Section (6PD-L), at fax number 214-665-7263.

• Mail: Mr. Guy Donaldson, Chief, Air Planning Section (6PD-L), Environmental Protection Agency, 1445 Ross Avenue, Suite 1200, Dallas, Texas 75202-2733.

• Hand or Courier Delivery: Mr. Guy Donaldson, Chief, Air Planning Section (6PD-L), Environmental Protection Agency, 1445 Ross Avenue, Suite 1200, Dallas, Texas 75202-2733. Such deliveries are accepted only between the hours of 8 a.m. and 4 p.m. weekdays except for legal holidays. Special arrangements should be made for deliveries of boxed information.

Instructions: Direct your comments to Docket ID No. EPA-R06-OAR-2007-0210. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at 214-665-7253 to make an appointment. If possible, please make the appointment at least two working days in advance of your visit. There will be a 15 cent per page fee for making photocopies of documents. On the day of the visit, please check in at the EPA Region 6 reception area at 1445 Ross Avenue, Suite 700, Dallas, Texas.

The State submittal is also available for public inspection at the State Air Agency listed below during official business hours by appointment: Texas Commission on Environmental Quality, Office of Air Quality, 12124 Park 35 Circle, Austin, Texas 78753.

FOR FURTHER INFORMATION CONTACT: Emad Shahin, Air Planning Section (6PD-L), Environmental Protection Agency, Region 6, 1445 Ross Avenue, Suite 700, Dallas, Texas 75202-2733, telephone 214-665-6717; fax number 214-665-7263; e-mail address shahin.emad@epa.gov.

SUPPLEMENTARY INFORMATION: Throughout this document, whenever “we”, “us”, or “our” is used, we mean the EPA.

Outline

I. What action is EPA taking?

II. What is a SIP?

III. What is the background for this action?

IV. What is EPA's evaluation of the revision?

V. Statutory and Executive Order Reviews

I. What action is EPA taking?

EPA is approving revisions to the Texas SIP that pertain to regulations on reporting of emissions (emissions inventories) submitted by stationary sources of air pollutants and conformity of general Federal actions to SIPs. Revisions were adopted by the State of Texas on December 1, 1999, and submitted to EPA Region 6 on December 17, 1999. Additional revisions to the emissions inventory regulations were adopted on February 7, 2007, and submitted to EPA on February 26, 2007. Specifically we are approving:

• Revisions to 30 TAC 101.10 Emissions Inventory Requirements, submitted December 1999;

• Revisions to 30 TAC 101.30, Conformity of General Federal Actions to State Implementation Plans submitted December 1999; and

• The creation of Chapter 19, Electronic Reporting (30 TAC 19) submitted February 2007.

This approval does not address the revision of 30 TAC 101.1 (Definitions) and adding of 30 TAC 101.28 (Stringency Determination for Federal Operating Permits) which were submitted on December 17, 1999. The revisions to section 101.1 were later superceded by revisions adopted by Texas on September 26, 2001, and approved by EPA on November 14, 2001 (66 FR 57252). Because the December 17, 1999, revisions 101.1 were superceded by the 2001 submission which has already been approved, no action or review is needed here. EPA intends to take action on 30 TAC 101.28 at a later time. A more complete description of the revisions is available in the Technical Support Document (TSD) posted on www.regulations.gov.

We are approving the revisions pursuant to Section 110, part D of the CAA. The reporting of additional emissions and emissions-related data will help to achieve and continue to maintain the NAAQS in Texas. Regulated entities that submit emissions inventories will be allowed to do so electronically. Approving these revisions and the administrative changes to the general conformity rule will make the federal SIP consistent with the state's rules.

We are also making a ministerial correction to the table in 40 CFR 52.2270(c) to reflect the correct title of the EPA approved regulation in the Texas SIP. The ministerial correction applies to the table entry for Section 101.30, which should be titled “Conformity of General Federal Actions to State Implementation Plans”.

EPA is publishing this rule without prior proposal because we view this as a non-controversial amendment and anticipate no adverse comments. However, in the proposed rules section of this Federal Register publication, we are publishing a separate document that will serve as the proposal to approve the SIP revision if relevant adverse comments are received. This rule will be effective on September 21, 2010 without further notice unless we receive relevant adverse comment by August 23, 2010. If we receive relevant adverse comments, we will publish a timely withdrawal in the Federal Register informing the public that the rule will not take effect. We will address all public comments in a subsequent final rule based on the proposed rule. We will not institute a second comment period on this action. Any parties interested in commenting must do so now. Please note that if we receive adverse comment on an amendment, paragraph, or section of this rule and if that provision may be severed from the remainder of the rule, we may adopt as final those provisions of the rule that are not the subject of an adverse comment.

II. What is a SIP?

Section 110 of the CAA requires states to develop air pollution regulations and control strategies to ensure that air quality meets the national ambient air quality standards (NAAQS) established by EPA. NAAQS are established under section 109 of the CAA and currently address six criteria pollutants: Carbon monoxide (CO), nitrogen dioxide, ozone, lead (Pb), particulate matter (PM), and sulfur dioxide (SO2).

A SIP is a set of air pollution regulations, control strategies, other means or techniques, and technical analyses developed by the state, to ensure that the state meets the NAAQS. It is required by section 110 and other provisions of the CAA. A SIP protects air quality primarily by addressing air pollution at its point of origin. A SIP can be extensive, containing state regulations or other enforceable documents, and supporting information such as emissions inventories, monitoring networks, and modeling demonstrations. Each state must submit regulations and control strategies to EPA for approval and incorporation into the federally-enforceable SIP.

III. What is the background for this action?

On December 17, 1999, the Governor of Texas submitted rules for inclusion into the SIP which amended regulations on emissions inventories submitted by stationary sources of air pollutants and conformity of general Federal actions to SIPs. The revisions to 30 TAC 101.10, emissions inventory requirements: (1) Allow the state to collect additional data related to emissions from stationary sources, (2) contain requirements for sources in regions that are in violation of a NAAQS to report typical daily emissions of carbon monoxide and ozone precursor gases during the winter and summer months, respectively, (3) delete a requirement to report allowable emissions in the emissions inventory report, (4) add a requirement for facilities to report actual emissions for the statewide annual inventory update if a change in operating conditions results in a change from the most recently submitted emissions data of at least 5 tons per year in total annual emissions of volatile organic compounds, NOX, CO, SO2, Pb, or PM, (5) require submission of calculations representative of emission producing processes where continuous emission monitoring system data is not available, and (6) remove obsolete language that referred to inventory requirements due in 1992 and 1993.

The revisions to the regulation on conformity of general federal actions to SIPs, (30 TAC 101.30), are non-substantive changes. Definitions in the regulation were moved to another part of the Texas Administrative Code (30 TAC 101.1, Definitions) or were deleted if they were already part of the Code.

On October 13, 2005 EPA published the final Cross Media Electronic Reporting Rule (CROMERR) in the Federal Register, (70 FR 59848). CROMERR establishes electronic reporting as an acceptable regulatory alternative to paper reporting and establishes requirements to assure that electronic documents are as legally dependable as their paper counterparts. Subpart D of the CROMERR requires states, tribal or local government agencies that receive or wish to receive electronic reports under their EPA-authorized programs to apply to EPA for a revision to those programs and get EPA's approval. On February 26, 2007 Texas submitted to EPA revisions to the emissions inventory reporting regulations. The revisions allow for electronic reporting of emissions consistent with CROMERR.

On October 14, 2008, the Texas Commission on Environmental Quality (TCEQ) submitted two applications to EPA for approval under CROMERR; one for their Net Discharge Monitoring Report (NetDMR) and the second, for the State of Texas Environmental Electronic Reporting System (STEERS) electronic document receiving systems for revision or modification of multiple authorized programs under 40 CFR parts 51, 60, 63, 70, 123, 142, 233-404, 271, 281, and 403. EPA approved the applications and published a Federal Register notice on April 27, 2009 (74 FR 19082) to allow electronic reporting for specific authorized programs under Title 40.

IV. What is EPA's evaluation of the revision?

EPA has evaluated the state's submittals that pertain to (1) Reporting of emissions and emission-related data by stationary sources of air pollutants, (2) conformity of general Federal actions to SIPs, and (3) allowing electronic reporting into Texas' SIP, and have determined that they meet the applicable requirements of the CAA and EPA air quality regulations because they are consistent with EPA's requirements for emissions reporting, conformity, and electronic reporting. (For further information on our evaluation see the TSD for this action). This approval will make these revised regulations federally enforceable. Enforcement of the regulations in a state SIP before and after it is incorporated into the federally approved SIP is primarily a state responsibility. However, after the regulations are federally approved, we are authorized to take enforcement action against violators. Citizens are also offered legal recourse to address violations as described in Section 304 of the CAA. Approval will also help make the federally approved SIP consistent with state regulations.

For additional information on our evaluation please refer to the Technical Support Document found in the electronic docket.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 21, 2010. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: July 12, 2010.
Al Armendariz,
Regional Administrator, Region 6.

40 CFR part 52 is amended as follows:

PART 52—[AMENDED]

1. The authority citation for part 52 continues to read as follows:

Authority: 42 U.S.C. 7401 et seq.

Subpart SS—Texas

2. The first table in § 52.2270(c) titled “EPA Approved Texas Regulations” is amended by:

a. Immediately before the heading “Chapter 101—General Air Quality Rules” adding a new centered heading in numerical order for “Chapter 19—Electronic Reporting”; followed by a centered heading for “Subchapter A—General Provisions”; followed by entries for Sections 19.1 and 19.3; followed by a centered heading for “Subchapter B—Electronic Reporting Requirements”; followed by entries for sections 19.10, 19.12, and 19.14.

b. Revising the entries for Sections 101.10 and 101.30 under “Chapter 101—General Air Quality Rules”.

The additions and revisions read as follows:

§ 52.2270 Identification of plan.

* * * * *

(c) * * *

EPA Approved Regulations in the Texas SIP
State citation | Title/subject | State approval/submittal date | EPA approval date | Explanation
Chapter 19—Electronic Reporting
Subchapter A—General Provisions
Section 19.1 | Definitions | 2/7/2007 | July 23, 2010 [Insert FR page number where document begins
Section 19.3 | Applicability | 2/7/2007 | July 23, 2010 [Insert FR page number where document begins
Subchapter B—Electronic Reporting Requirements
Section 19.10 | Use of Electronic Document Receiving System | 2/7/2007 | July 23, 2010 [Insert FR page number where document begins
Section 19.12 | Authorized Electronic Signature | 2/7/2007 | July 23, 2010 [Insert FR page number where document begins
Section 19.14 | Enforcement | 2/7/2007 | July 23, 2010 [Insert FR page number where document begins
Chapter 101—General Air Quality Rules
Subchapter A—General Rules
* * * * * * *
Section 101.10 | Emissions Inventory Requirements | 12/1/1999 | July 23, 2010 [Insert FR page number where document begins
* * * * * * *
Section 101.30 | Conformity of General Federal Actions to State Implementation Plans | 12/1/1999 | July 23, 2010 [Insert FR page number where document begins
* * * * * * *

[FR Doc. 2010-17975 Filed 7-22-10; 8:45 am]

BILLING CODE 6560-50-P